DEPARTMENT OF HEALTH AND HUMAN SERVICES

Health Resources and Services Administration

Delegation of Authority

Notice is hereby given that I have delegated to the Administrator, Health Resources and Services Administration (HRSA), authority vested in the Secretary of Health and Human Services under the Smallpox Emergency Personnel Protection Act of 2003 (Pub. L. 108-20), enacting the following authority: Part C, title II of the Public Health Service Act, as amended.

This delegation shall be exercised under the Department's existing delegation of authority and policy on regulations

This delegation is effective upon signature. In addition, I hereby affirm and ratify any actions taken by the HRSA Administrator or other HRSA officials, which involved the exercise of this authority prior to the effective date of the delegation.

Dated: July 10, 2003.
Tommy G. Thompson,
Secretary.

[FR Doc. 03-19513 Filed 7-30-03; 8:45 am]

BILLING CODE 4165-15-M